DEPARTMENT OF ENERGY

Federal Energy Regulatory Commission

Combined Notice Of Filings #1

October 6, 2010.

Take notice that the Commission received the following electric rate filings:

Docket Numbers: ER10-1951-001.

Applicants: NextEra Energy Services Massachusetts, L.

Description: NextEra Energy Services Massachusetts, LLC submits tariff filing per 35: NextEra Energy Services Mass, LLC Compliance Filing to be effective 12/31/9998.

Filed Date: 10/06/2010.

Accession Number: 20101006-5051.

Comment Date: 5 p.m. Eastern Time on Wednesday, October 27, 2010.

Docket Numbers: ER11-26-000.

Applicants: Ashtabula Wind III, LLC.

Description: Ashtabula Wind III, LLC submits tariff filing per 35.12: Ashtabula Wind III, LLC Market-Based Rate Application to be effective 10/5/2010.

Filed Date: 10/05/2010.

Accession Number: 20101005-5099.

Comment Date: 5 p.m. Eastern Time on Tuesday, October 26, 2010.

Docket Numbers: ER11-27-000.

Applicants: LSP Safe Harbor Holdings, LLC.

Description: LSP Safe Harbor Holdings, LLC submits tariff filing per 35.12: Application for Market-Based Rates to be effective 11/15/2010.

Filed Date: 10/05/2010.

Accession Number: 20101005-5105.

Comment Date: 5 p.m. Eastern Time on Tuesday, October 26, 2010.

Docket Numbers: ER11-28-000.

Applicants: Midwest Independent Transmission System Operator, Inc.

Description: Midwest Independent Transmission System Operator, Inc. submits tariff filing per 35.13(a)(2)(iii: Att GG FINAL 2 to be effective 12/5/2010.

Filed Date: 10/05/2010.

Accession Number: 20101005-5135.

Comment Date: 5 p.m. Eastern Time on Tuesday, October 26, 2010.

Docket Numbers: ER11-30-000.

Applicants: Wisconsin Public Service Corporation.

Description: Wisconsin Public Service Corporation Depreciation Study & Change in Depreciation Rates.

Filed Date: 10/05/2010.

Accession Number: 20101005-5150.

Comment Date: 5 p.m. Eastern Time on Tuesday, October 26, 2010.

Docket Numbers: ER11-31-000.

Applicants: Grand Ridge Energy LLC.

Description: Grand Ridge Energy LLC submits tariff filing per 35.12: Baseline Filing of Assignment, Co-Tenancy and Shared Facilities Agreement to be effective 10/6/2010.

Filed Date: 10/06/2010.

Accession Number: 20101006-5042.

Comment Date: 5 p.m. Eastern Time on Wednesday, October 27, 2010.

Docket Numbers: ER11-32-000.

Applicants: Grand Ridge Energy II LLC.

Description: Grand Ridge Energy II LLC submits tariff filing per 35.12: Baseline Filing of Assignment, Co-Tenancy, and Shared Facilities Agreement to be effective 10/6/2010.

Filed Date: 10/06/2010.

Accession Number: 20101006-5043.

Comment Date: 5 p.m. Eastern Time on Wednesday, October 27, 2010.

Docket Numbers: ER11-33-000.

Applicants: Grand Ridge Energy III LLC.

Description: Grand Ridge Energy III LLC submits tariff filing per 35.12: Baseline Filing of Assignment, Co-Tenancy, and Shared Facilities Agreement to be effective 10/6/2010.

Filed Date: 10/06/2010.

Accession Number: 20101006-5044.

Comment Date: 5 p.m. Eastern Time on Wednesday, October 27, 2010.

Docket Numbers: ER11-34-000.

Applicants: Grand Ridge Energy IV LLC.

Description: Grand Ridge Energy IV LLC submits tariff filing per 35.12: Baseline Filing of Assignment, Co-Tenancy, and Shared Facilities Agreement to be effective 10/6/2010.

Filed Date: 10/06/2010.

Accession Number: 20101006-5045.

Comment Date: 5 p.m. Eastern Time on Wednesday, October 27, 2010.

Docket Numbers: ER11-35-000.

Applicants: Grand Ridge Energy V LLC.

Description: Grand Ridge Energy V LLC submits tariff filing per 35.12: Baseline Filing of Assignment, Co-Tenancy, and Shared Facilities Agreement to be effective 10/6/2010.

Filed Date: 10/06/2010.

Accession Number: 20101006-5047.

Comment Date: 5 p.m. Eastern Time on Wednesday, October 27, 2010.

Docket Numbers: ER11-36-000.

Applicants: KD Power Marketing Services, LLC.

Description: Notice of Cancellation of Market-Based Rate Tariff for KD Power Marketing Services, LLC.

Filed Date: 10/06/2010.

Accession Number: 20101006-5048.

Comment Date: 5 p.m. Eastern Time on Wednesday, October 27, 2010.

Docket Numbers: ER11-37-000.

Applicants: PJM Interconnection, L.L.C.

Description: PJM Interconnection, L.L.C. submits an executed Wholesale Market Participating Agreement with PPL Renewable Energy and Metropolitan Edison Co, to be effective 9/17/2010.

Filed Date: 10/06/2010.

Accession Number: 20101006-5049.

Comment Date: 5 p.m. Eastern Time on Wednesday, October 27, 2010.

Docket Numbers: ER11-38-000.

Applicants: PJM Interconnection, L.L.C.

Description: PJM Interconnection, L.L.C. submits tariff filing per 35.13(a)(2)(iii): WMPA No. 2647, V2-046, among PJM, Pilesgrove Solar Power and Atlantic City to be effective 9/17/2010.

Filed Date: 10/06/2010.

Accession Number: 20101006-5050.

Comment Date: 5 p.m. Eastern Time on Wednesday, October 27, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-26041 Filed 10-14-10; 8:45 am]

BILLING CODE 6717-01-P